DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and marine mammals.

DATES: Written data, comments or requests must be received by July 3, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

Applicant: University of Georgia, College of Veterinary Medicine, Infectious Disease Laboratory, Athens, GA, PRT-009445.

The applicant requests a permit to import tissue or blood samples of any avian species (class Aves), reptile species (class Reptilia), and any fish (within the taxonomic phylum Chordata) from world-wide locations for the purpose of diagnostic testing for infectious diseases/scientific research. This notification covers activities to be conducted by the applicant over a five-year period.

Applicant: John J. LaRoche, Ravenel, SC, PRT-122053.

The applicant requests a permit to import the sport-hunted trophy of one male bontebok (Damaliscus pygargus pygargus) culled from a captive herd maintained under the management program of the Republic of South Africa, for the purpose of enhancement of the survival of the species.

Applicant: Mitchel Kalmanson, Maitland, FL, PRT-120067, 120068, 120069, 120070, 120071, 120072, 120073, 120075, and 120076.

The applicant requests permits to export, re-export, and re-import captive born tigers (Panthera tigris) to worldwide locations for the purpose of enhancement of the species through conservation education. The permit numbers and animals are 120067—Angel, 120068—Yama/Olga, 120069—Yali, 120070—Mikel/Ranchin, 120071—Yalu/Igor, 120072—Juanita, 120073—Koda, 120075—Champagne, and 120076—Kublai Khan. This notification covers activities to be conducted by the applicant over a three-year period and the import of any potential progeny born to females while overseas.

Applicant: Memphis Zoo, Memphis, TN, PRT 125372.

The applicant requests a permit to import viable frozen semen samples from male giant pandas from the Chengdu Research Base of Giant Panda Breeding for the purpose of enhancement of the survival of the species through scientific research and propagation. This notification covers activities to be conducted by the applicant over a five year period.

Endangered Marine Mammals and Marine Mammals

The public is invited to comment on the following applications for a permit to conduct certain activities with endangered marine mammals and marine mammals. The applications were submitted to satisfy requirements of the Endangered Species Act of 1973, as amended (16 U.S.C. 1531 et seq.) and the Marine Mammal Protection Act of 1972, as amended (16 U.S.C. 1361 et seq.), and the regulations governing endangered species (50 CFR part 17) and marine mammals (50 CFR part 18). Written data, comments, or requests for copies of the complete applications or requests for a public hearing on these applications should be submitted to the Director (address above). Anyone requesting a hearing should give specific reasons why a hearing would be appropriate. The holding of such a hearing is at the discretion of the Director.

Applicant: Iskande L.V. Larkin, University of Florida, Gainesville, FL, PRT-038448.

The applicant requests an amendment and an extension to her permit to take biological samples from 5 tagged female manatees in the wild and 14 captive held male and female manatees and to observe and collect fecal samples opportunistically from any number of wild and captive held manatees for the purpose of scientific research on aspects of reproductive endocrine health and behavior. This notification covers activities to be conducted by the applicant over a five-year period.

Concurrent with the publication of this notice in the Federal Register, the Division of Management Authority is forwarding copies of the above applications to the Marine Mammal Commission and the Committee of Scientific Advisors for their review.

Applicant: Evan S. Evanovich, Venetia, PA, PRT-122434.

The applicant requests a permit to import a polar bear (Ursus maritimus) sport hunted from the Northern Beaufort Sea polar bear population in Canada for personal, noncommercial use.

Applicant: Fred A. Pierce, Thayne, WY, PRT-122061.

The applicant requests a permit to import a polar bear (Ursus maritimus) sport hunted from the Lancaster Sound polar bear population in Canada for personal, noncommercial use.

Applicant: Fred A. Pierce, Thayne, WY, PRT-125919.

The applicant requests a permit to import a polar bear (Ursus maritimus) sport hunted from the Lancaster Sound polar bear population in Canada for personal, noncommercial use.

Dated: May 12, 2006.
Monica Farris,
Senior Permit Biologist, Branch of Permits, Division of Management Authority.

[FR Doc. E6-8478 Filed 5-31-06; 8:45 am]

BILLING CODE 4310-55-P